DEPARTMENT OF COMMERCE

Foreign-Trade Zones Board

[B-38-2025]

Foreign-Trade Zone (FTZ) 17, Notification of Proposed Production Activity; Garmin International, Inc.; (Avionics and Auto Products; Marine and Personal GPS Products); Olathe, Kansas

Garmin International, Inc. submitted a notification of proposed production activity to the FTZ Board (the Board) for its facilities in Olathe, Kansas within Subzone 17G. The notification conforming to the requirements of the Board's regulations (15 CFR 400.22) was received on July 21, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: avionic products (electronic interference suppression surface-mounts; configuration modules and subassemblies; servo actuators and flight control systems; power system interface subassemblies; communication, navigation and flight control systems; GPS and communication systems; GPS and navigation systems; satellite communication transceivers and radios; display modules; satellite communication transceivers and receivers; radar altimeter subassemblies; radar systems; autopilot and flight control systems; engine indication systems; traffic advisory systems; audio panel subassemblies; communication and datalink systems; housing and mounting components kits; night vision and display systems; GPS navigation and communication kits; flight display subassemblies; resistors; system interfaces; system integration devices; control system subassemblies; transponders with GPS systems; wiring system subassemblies; servo mounts and adapters; altitude and air speed sensors); removable media (with pilot software; with GPS navigation map updates; with marine navigation software updates); assemblies (autopilot and flight control system; printed circuit board); smartwatches with global position systems, performance tracking, fitness tracking, and navigation features; radar altimeters; GPS antenna kits; automobile products (performance control modules; electric drive systems); and, marine products (autopilot system instrument kits; integrated smart pumps; reactor-based autopilot systems) (duty rate ranges from duty-free to 5.3%).

The proposed foreign-status materials/components include: solder fluxes; silicone components (hoses; pads; radio-frequency (“RF”) absorber sheets; watch bands; foam cushions; watch straps); plastic components (barbed tube fittings; tapes; storage cases; bags; block shields; cable guard kits; cable ties; chafe blocks; clamps; cushions; fairleads; gaskets; hydrophobic patches; knob assemblies; O-rings; spacers; thermal pads; washers; wheel caps; wiring conduits; protective covers; protective cases); paper components (labels; envelopes; package sleeves; printed inserts); vinyl protective caps; polypropylene protective trays; nylon pins; assorted plastic hardware kits; rubber components (gaskets; O-rings; spacers; washers; insulators); polyurethane foam pads; assorted rubber hardware kits; paperboard boxes; synthetic fiber covered gaskets; synthetic microfiber cleaning cloths; zinc components (load cell arms; ratchet sockets); mount plates; assemblies (cable; printed circuit board; gear; electrical switch; housing; mechanical control rod; mount backplate; protective cover; drive plate; heated pitot; surface mount engine shield; hydraulic autopilot; mounting tray; pitot tube); steel components (wires; screws; washers; backshell assemblies; spacers; standoffs; rings; pins; bolts; screw and washer kits; threaded fastener assemblies; jackscrew fasteners; backshells; cotter pins; studs; springs; alignment guides; bellcrank clamps; clamps; connecting links; endplate mounts; bushings; screw tops; brackets; nuts; tension and compression load cells; watch buckles); subassemblies (connector composite; counter-sunk top ring; servo actuator; connector; electromagnetic shield; display module; radio receiver; audio and communication system; support chassis; audio cable; flight instrument; signal conversion; actuator; adaptor plate; altitude reference sensor; altitude encoder); adapters; magnet carriers; copper components (washers; air fittings; thermal interface coins; gaskets; spring connectors; springs; standoffs; heat pipes); brass screws; nickel plated brass nuts; aluminum components (chain assemblies; backshells; adapters; adaptor switches; bracket assemblies; board supports; beams; brackets; bulkheads; cable guards; chain guards; capstans; clamps; covers; frames; fairleads; gussets; housings; install racks; links; mount adaptors; mount kits; mount racks; mounts; nut plate kits; washers; support trays; support shelves; structural supports; stiffeners; spacer bearings; spacers; shims; pulleys; pulley covers; ports; nut plates; protective covers; bracket support structures; electrolytic capacitors); watch components (stainless steel and aluminum buckles; buckles; faces; backplates; battery doors; stainless steel straps; leather straps); nameplates; linear actuators; magnet mounts; motor components (mounts; housings; clamps; actuators); shaft seals; solenoid components (armatures; box frames; coils; surface mount plunder stops; cups; rotors); electric motor fans; SD card readers; kits (mechanical fuse; breather vent; mounting; connector; electrical connector; capstan assembly; standoff; antenna; mount installation; light counterweight; receiver; resistor; mount bracket; marine transducer; electronic flight instrument system installation; autopilot control head; transducer replacement; thermocouple; mechanical arm attachment; watch tongue); solenoids; breather vent covers; shafts; bearing spacers; bearings; bronze bushings; flanged bearings; clutch components (cartridges; mounting kits; cartridge kits; lever arms); spiral bevel gear sets; pulley grooves; bearing cups; cable guards; DC brushless motors; servo actuators; housings (die-cast; pin connector; optic reflection); magnet motor carriers; power inductors; light pipes; linear actuator sensor magnets; power splitters; RF components (mixers; gaskets; shield covers; shield partitions); transformers; position magnets; lithium battery cells; lithium-ion batteries; modules (wireless Wi-Fi gateway; Bluetooth; RF; wireless data storage; liquid crystal display (“LCD”); programmed flash memory; media control; cooling; air data; configuration; sealed configuration and interface; signal output interface); smartwatch routers; avionic components (database and starter kits; autopilot devices; radar monitoring systems; GPS and communication system kits; GPS navigation systems; system display module subassemblies; system display modules; touchscreen displays; transponder kits; transponders; integrated system subassemblies; flight data and navigation displays; system displays; system display housings; attitude and air data heading reference system kits; attitude and air data heading reference systems; transponder subassemblies; engine indication system interfaces; altitude heading reference systems; altitude and heading device subassemblies; multi-functional flight instrument subassemblies); digital content protection receiver keys; removable storage media; LCD transistors; LCD display panels; bezels; printed circuit boards; fuses; switches (pushbutton; toggle; trim; optoelectronic); encoders; arrays (snapdome; radar antenna); connectors (board-to-board; micro power; electrical; battery; fuse holder); dual-row headers; flexible printed circuits; micro SD card adapters; printed circuit board stackers; ribbon cables; socket strips; ejector caps; mechanical cable retention fittings; integrated circuits; clock synthesizers; ball bearing pulleys; gear discs; sprockets; radio transmission apparatuses; digital cameras; receivers (data transmission, satellite radio data and weather); antennas; adapter rings; support chassis; connector plates; display components (backlights; module light guides; module spacers; frame panels); dual lock fasteners; frames (structural; surface mount); keypads; light pipe isolators; lock pawls; nut plates; lenses (photocell; glass; optic); heat sinks; chain guard adapters; encoder brackets; encoder spacers; pawl latches; capacitors (electrical; ceramic; polymer aluminum electrolytic); chip resistors; thermistors; thermocouples; trimmer potentiometers; relays; ring terminals; input control system joysticks with encoders; backshell components (clamps; covers; pins); backshells with jackscrew mechanism; connector adapters; crimp sockets; electrical crimp contacts; finger plates; EMI shielding finger stocks; ground plates; cushions (heat sink; infrared board); knob light pipes; mount clamps; mount racks; pitot-static ports; seal plugs; terminal studs; spring probes; diodes; transistors; surge protectors; transient blocking units; transient voltage suppressors; light emitting diodes; sensors (light; position; magnetic angle; fuel flow; pressure; internal measurement; velocity); optocouplers; oscillators; filters (acoustic wave; crystal; noise); oscillators (crystal; frequency control); signal processing devices; couplers (directional; hybrid); coaxial signal interfaces; wiring harnesses; cable jumpers; inline fuse holders; fuse holder connectors; network cables and wires; ferrite beads; ball bearings; films (diffuser; reflective); electronic flight instrument systems; engine indication devices; autopilot components (switch mounts; flight control systems; controllers; control heads); baseplates; cable guides; block guards; block stops; chafe blocks; position sensor mounts; data control processor components (bezels; chassis; housings; plates); flight control and autopilot devices; forked mechanical linkages; panel overlays; touchscreen flex seals; surface mount components (heat spreaders; install levers; locking tabs; crank arms); internal light diffusers; titanium finger rests; foil stickers; locking wedges; output mechanical hubs; output shafts; power buttons; pressure measurement protective caps and cases; motion guide blocks; electrical connector sockets; static pressure manifolds; wiring and cable conduits; altimeters; mechanical arms; accelerators; cross pin shafts; and, analog watch movements (duty rate ranges from duty-free to 11.20%, and 0.40¢/ea + 8.50% to 1.6¢/each + 6.80%). The request indicates that certain materials/components are subject to duties under section 1702(a)(1)(B) of the International Emergency Economic Powers Act (section 1702), section 232 of the Trade Expansion Act of 1962 (section 232) or section 301 of the Trade Act of 1974 (section 301), depending on the country of origin. The applicable section 1702, section 232 and section 301 decisions require subject merchandise to be admitted to FTZs in privileged foreign status (19 CFR 146.41).

Public comment is invited from interested parties. Submissions shall be addressed to the Board's Executive Secretary and sent to: ftz@trade.gov. The closing period for their receipt is September 8, 2025.

A copy of the notification will be available for public inspection in the “Online FTZ Information System” section of the Board's website.

For further information, contact Juanita Chen at juanita.chen@trade.gov.

Dated: July 24, 2025.
Elizabeth Whiteman,
Executive Secretary.

[FR Doc. 2025-14312 Filed 7-28-25; 8:45 am]

BILLING CODE 3510-DS-P